SOCIAL SECURITY ADMINISTRATION

20 CFR Parts 401 and 402

[Docket No. SSA-2007-0067]

RIN 0960-AG14

Privacy and Disclosure of Official Records and Information

AGENCY: Social Security Administration (SSA).

ACTION: Final rules with request for comment.

SUMMARY: We are revising our rules to allow us to better preserve the anonymity of, and to better protect the physical well-being of, our employees who reasonably believe that they are at risk of injury or other harm if certain employment information about them is disclosed. These changes in the rules are intended to ensure uniform application of the policy for at-risk employees. We are again requesting comments on these final rules because we revised the language of the proposed rules to clarify our intent.

DATES: Effective Date: January 9, 2008.

Comment Date: To be sure your comments are considered, we must receive them by February 8, 2008.

ADDRESSES: You may submit comments by any of the following methods. Regardless of which method you choose, to ensure that we can associate your comments with the correct regulation for consideration, you must state that your comments refer to Docket No. SSA-2007-0067:

• Federal eRulemaking Portal at http://www.regulations.gov. (This is the preferred method for submitting your comments.) In the Search Documents section, select “Social Security Administration” from the agency drop-down menu, then click “submit”. In the Docket ID Column, locate SSA-2007-0067 and then click “Add Comments” in the “Comments Add/Due By” column.

• Telefax to (410) 966-2830.

• Letter to the Commissioner of Social Security, P.O. Box 17703, Baltimore, MD 21235-7703.

• Deliver your comments to the Office of Regulations, Social Security Administration, 922 Altmeyer Building, 6401 Security Boulevard, Baltimore, MD 21235-6401, between 8 a.m. and 4:30 p.m. on regular business days.

Comments are posted on the Federal eRulemaking Portal. You may also inspect them on regular business days by making arrangements with the contact person named in this preamble.

FOR FURTHER INFORMATION CONTACT: Edie McCracken, Social Insurance Specialist, Office of Public Disclosure, 3-A-6 Operations Building, 6401 Security Boulevard, Baltimore, MD 21235-6401, (410) 965-6117. For information on eligibility or filing for benefits, call our national toll-free number, 1-800-772-1213 or TTY 1-800-325-0778, or visit our Internet Web site, Social Security Online, at http://www.socialsecurity.gov.

SUPPLEMENTARY INFORMATION:

Electronic Version

The electronic file of this document is available on the date of publication in the Federal Register at http://www.gpoaccess.gov/fr/index.html.

Background

We approved a recommendation from a national committee on security to implement a nationwide program to enhance the safety and security of our employees who are victims, or potential victims, of domestic violence. It was intended to safeguard the anonymity of at-risk employees when requests for their work location and/or phone number were received from individuals posing a threat to their personal safety, by delaying the disclosure of the information when certain conditions were met. This process would have entailed a change in our policy that now permits such information requests to be honored. While no action was ever taken on the recommendation, we are amending our rules to reflect a similar approach that will strengthen our privacy and disclosure rules to better safeguard at-risk employees.

Notice of Proposed Rulemaking

We proposed a modified version of the recommendation to implement a nationwide program to enhance the safety and security of our employees who are at risk or victims, or potential victims, of domestic violence and called it the Identity Protection Program (IPP). We published a Notice of Proposed Rulemaking (NPRM) in the Federal Register on June 6, 2006 (71 FR 32494).

The NPRM proposed to:

• Amend 20 CFR part 401, Appendix A (b)(3)(c)(4) by removing the sentence, “Location of duty station, including room number and telephone number,” and

• Revise 20 CFR 402.45 by adding a new paragraph (e). New paragraph § 402.45(e) will describe the rules governing the release of personally identifiable information (employees' telephone numbers and duty stations, including room numbers, bay designations, or other identifying information regarding buildings or places of employment).

We have made some revisions to the rules published in the NPRM due to the comments we received. We describe these revisions and our reasons for making them below.

Comments on the NPRM

When we published the NPRM, we provided the public with a 60-day comment period. Four individual members of the public and one advocacy organization submitted comments. Because some of the comments submitted were detailed, we have summarized the views presented in the comments and are responding to the issues raised in the comments that were within the scope of the proposed rules.

Comment: Two members of the public expressed support and agreed with the proposal to strengthen our privacy and disclosure rules to better safeguard at-risk employees. One commenter urged us to promptly move forward with the proposal.

Response: We appreciate the commenters' support of our proposal.

Comment: Two members of the public and the advocacy organization disagreed with the proposal to strengthen our privacy and disclosure rules to better safeguard at-risk employees. They were concerned that the public would not have access to our employees when conducting claims-related business with us. These three commenters asserted that the proposed rules would not improve our service delivery because the public would not be able to directly contact the employee who handled a specific claim related issue or action.

Response: These final rules are not intended to impede the prompt and courteous service that the public is entitled to receive. We do not believe that these changes will negatively affect the service that we provide to the public. Telephone calls from the public are received in each local field office through one general telephone number. For the purpose of conducting ongoing SSA business, however, it may be necessary for employees to provide a direct telephone number by which they can be reached when assisting members of the public. Under these rules, employees will still continue to receive telephone calls directly from those members of the public whom they are assisting. Our rules would provide an additional level of protection for employees who have reason to believe that disclosure of their work location and telephone number could add to their risk of injury or other harm. These final rules will allow us to use our discretion to withhold the work location and/or telephone number of employees who are victims (or potential victims) of domestic violence.

We realize from these comments that the description of our intent was misinterpreted. Therefore, we have rewritten § 402.45(e) to clarify our intent. Although we are issuing these rules as final rules, we are also requesting comments on the text of § 402.45(e), as it differs from what we proposed.

Other Changes

In our NPRM (71 FR 32494) published on June 6, 2006, we incorrectly identified the text in Appendix A to part 401 we proposed to remove. The correct identification is paragraph (c)(4) of Appendix A to part 401. We have corrected it in these final rules.

Regulatory Procedures

Executive Order 12866, as Amended

We have consulted with the Office of Management and Budget (OMB) and determined that these final rules meet the criteria for a significant regulatory action under Executive Order 12866, as amended. Thus, they were subject to OMB review.

Regulatory Flexibility Act

We certify that these final rules do not have a significant economic impact on a substantial number of small entities because they affect only individuals. Thus, a regulatory flexibility analysis as provided in the Regulatory Flexibility Act, as amended, is not required.

Paperwork Reduction Act

These final rules impose no reporting or recordkeeping requirements subject to OMB clearance.

(Catalog of Federal Domestic Assistance Program Nos. 96.001, Social Security—Disability Insurance; 96.002, Social Security—Retirement Insurance; 96.004, Social Security—Survivors Insurance; 96.006, Supplemental Security Income)

List of Subjects in 20 CFR Parts 401 and 402

Administrative practice and procedure, Freedom of information, Privacy.

Dated: August 29, 2007.
Michael J. Astrue,
Commissioner of Social Security.

Editorial Note: This document was received at the Office of the Federal Register on Monday, December 3, 2007.

For the reasons set out in the preamble, we are amending Appendix A of part 401 and part 402 of chapter III of title 20 of the Code of Federal Regulations as set forth below:

PART 401—PRIVACY AND DISCLOSURE OF OFFICIAL RECORDS AND INFORMATION

1. The authority citation for part 401 continues to read as follows:

Authority: Secs. 205, 702(a)(5), 1106, and 1141 of the Social Security Act (42 U.S.C. 405, 902(a)(5), 1306, and 1320b-11); 5 U.S.C. 552 and 552a; 8 U.S.C. 1360; 26 U.S.C. 6103; 30 U.S.C. 923.

Appendix A—[Amended]

2. Appendix A is amended by removing paragraph (b)(3)(c)(4).

PART 402—AVAILABILITY OF INFORMATION AND RECORDS TO THE PUBLIC

1. The authority citation for part 402 continues to read as follows:

Authority: Secs. 205, 702(a)(5), and 1106 of the Social Security Act; (42 U.S.C. 405, 902(a)(5), and 1306); 5 U.S.C. 552 and 552a; 8 U.S.C. 1360; 18 U.S.C. 1905; 26 U.S.C. 6103; 30 U.S.C. 923b; 31 U.S.C. 9701; E.O. 12600, 52 FR 23781, 3 CFR, 1987 Comp., p. 235.

2. Section 402.45 is amended by adding paragraph (e) to read as follows:

§ 402.45 Availability of records.

* * * * *

(e) Federal employees. We will not disclose information when the information sought is lists of telephone numbers and/or duty stations of one or more Federal employees if the disclosure, as determined at the discretion of the official responsible for custody of the information, would place employee(s) at risk of injury or other harm. Also, we will not disclose the requested information if the information is protected from mandatory disclosure under an exemption of the Freedom of Information Act.

[FR Doc. E7-23786 Filed 12-7-07; 8:45 am]

BILLING CODE 4191-02-P